POSTAL SERVICE

39 CFR Part 20

International Competitive Services and Price Changes

AGENCY: Postal Service™.

ACTION: Final rule.

SUMMARY: The Postal Service™ is revising Mailing Standards of the United States Postal Service, International Mail Manual (IMM®), and Notice 123, Price List, to reflect changes to Competitive Services as established by the Governors of the United States Postal Service.

DATES: Effective: January 30, 2025.

FOR FURTHER INFORMATION CONTACT: Dale Kennedy at 202-268-6592 or Kathy Frigo at 202-268-4178.

SUPPLEMENTARY INFORMATION: This final action describes new prices established by the Governors of the United States Postal Service and submitted for review by the Postal Regulatory Commission (PRC) in Docket Number CP2025-1, which the PRC favorably reviewed on January 16, 2025, in Order No. 8635 (see https://prc.gov).

Also, by notice filed on November 15, 2024, in PRC Docket No. MC2025-424, which the PRC favorably reviewed on January 13, 2025, in Order No. 8573, the Postal Service is changing the country group assignments for St. Pierre and Miquelon. In addition, the Postal Service is also changing the Foreign Office of Exchange Code for International Priority Airmail destined for St. Pierre and Miquelon.

This final action describes the international price changes and minor classification changes for the following international competitive services:

• Priority Mail Express International®.

• Priority Mail International®.

• First-Class Package International Service.

• International Priority Airmail®.

• International Surface Air Lift®.

• Direct Sacks of Printed Matter to One Addressee (Airmail M-bag®).

• The following competitive international extra services and fees:

• International Insurance.

• Certificate of Mailing.

• International Registered Mail.

• Customs Clearance and Delivery Fee.

For pricing, see the Postal Explorer website at https://pe.usps.com.

Priority Mail Express International ¹

¹ GXG service was suspended as of September 29, 2024, and thus is not included with this Notice.

Priority Mail Express International (PMEI) service provides fast service to approximately 180 countries in 3-5 business days for many major markets, although the actual number of days may vary based upon origin, destination, and customs delays. PMEI with Money-Back Guarantee service is available for certain destinations. Due to airline travel restrictions and cancellations, PMEI with Money-Back Guarantee service has been suspended for several destinations until further notice. For more information, see the USPS Service Updates page on www.usps.com. The price increase for PMEI service averages 4.9 percent. The Commercial Base price provides a discount below the published retail prices for customers who prepare and pay for PMEI shipments via permit imprint, online at USPS.com®, or as registered end-users using an authorized PC Postage vendor (with the exception of Click-N-Ship® service). Customers who prepare PMEI shipments via Click-N-Ship service pay retail prices. Commercial Plus will be equivalent to Commercial Base; however, deeper discounting may still be available to customers through negotiated service agreements.

The Postal Service will continue to include PMEI service in customized contracts.

PMEI flat rate pricing continues to be available for Flat Rate Envelopes.

Priority Mail International

Priority Mail International (PMI) is an economical way to send merchandise and documents to approximately 180 countries in 6-10 business days for many major markets, although the actual number of days may vary based upon origin, destination, and customs delays. The price increase for PMI service averages 4.9 percent. The Commercial Base price provides a discount below the published retail prices for customers who prepare and pay for PMI items via permit imprint, online at USPS.com, or as registered end-users using an authorized PC Postage vendor (with the exception of Click-N-Ship). Customers who prepare PMI shipments via Click-N-Ship pay retail prices. Commercial Plus prices will be equivalent to Commercial Base; however, deeper discounting may still be made available to customers through negotiated service agreements.

The Postal Service will continue to include PMI service in customized contracts.

PMI flat rate pricing continues to be available for Flat Rate Envelopes, Small Flat Rate Boxes, and Medium and Large Flat Rate Boxes.

First-Class Package International Service

First-Class Package International Service (FCPIS) is an economical international service for small packages not exceeding 4 pounds in weight and $400 in value. The price increase for FCPIS averages 4.9 percent. The Commercial Base price provides a discount below the published retail prices for customers who prepare and pay for FCPIS items via permit imprint or by USPS-approved online payment methods. Customers who prepare FCPIS shipments via Click-N-Ship service pay retail prices. Commercial Plus prices will be equivalent to Commercial Base; however, deeper discounting will be made available to customer through negotiated service agreements.

Electronic USPS Delivery Confirmation International service (E-USPS DELCON INTL®) is a tracking service available at no charge for FCPIS items to select destination countries.

International Priority Airmail and International Surface Air Lift

International Priority Airmail (IPA) service, including IPA M-bags, is a commercial service designed for volume mailings of all First-Class Mail International postcards, letters, and large envelopes (flats), and for volume mailings of FCPIS packages (small packets) weighing up to a maximum of 4.4 pounds. IPA shipments are typically flown to foreign destinations (exceptions apply to Canada) and are then entered into that country's air or surface priority mail system for delivery. The price increase for IPA is 4.9 percent. International Surface Airlift (ISAL) is like IPA except that once flown to the foreign destination, ISAL is entered into that country's air or surface nonpriority mail system for delivery. The price increase for ISAL is 28.9 percent.

Direct Sacks of Printed Matter to One Addressee (Airmail M-Bags)

An Airmail M-bag is a direct sack of printed matter sent to a single foreign addressee at a single address. Prices are based on the weight of the sack. The published prices for Airmail M-bags will remain the same on average and not increase, although a few prices will change slightly.

International Extra Services and Fees

Depending on country destination and mail type, customers may add a variety of extra services to their outbound shipments and pay a variety of fees. The Postal Service proposes to increase fees for certain competitive international extra services as follows:

• PMEI and PMI merchandise insurance: There is no charge for PMEI and PMI merchandise insurance coverage up to $200. The starting fee for additional insurance over $200 will be lowered to $11.85. For each additional $100 or fraction over $300 up to a maximum indemnity limit of $5000 (the maximum indemnity varies by country), the incremental fee will be as set forth in the table below:

Indemnity limit not over | Fee
Up to $200 | $0.00
$200.01-$300.00 | 11.85
$300.01-$400.00 | 15.00
$400.01-$500.00 | 18.15
$500.01-$600.00 | 21.30
$600.01-$700.00 | 24.40
$700.01-$800.00 | 27.60
$800.01-$900.00 | 30.70
$30.70 plus $3.15 per $100 or fraction thereof over $900 in declared value. Maximum insurance $5,000 (varies by country).

• Certificate of mailing service: Prices for competitive international certificate of mailing service will be as follows:

Certificate of Mailing
| Fee
Individual pieces:
Individual article (PS Form 3817) | $2.10
Duplicate copy of PS Form 3817 or PS Form 3665 (per page) | 2.10
Firm mailing sheet (PS Form 3665), per piece (minimum 3) All other qualifying classes of mail | 0.61
Bulk quantities:
For first 1,000 pieces (or fraction thereof) | 11.65
Each additional 1,000 pieces (or fraction thereof) | 1.52
Duplicate copy of PS Form 3606 | 2.10

• International Registered Mail service: The fee for competitive international registered mail will increase to $21.75.

• Customs clearance and delivery fee: The competitive customs clearance and delivery fee per dutiable item will increase to $8.85.

The Postal Service hereby adopts the following changes to Mailing Standards of the United States Postal Service, International Mail Manual (IMM), which is incorporated by reference in the Code of Federal Regulations. We will publish an appropriate amendment to 39 CFR part 20 to reflect these changes.

List of Subjects in 39 CFR Part 20

Foreign relations, International postal services.

Accordingly, the Postal Service amends Mailing Standards of the United States Postal Service, International Mail Manual (IMM), incorporated by reference in the Code of Federal Regulations, as follows (see 39 CFR 20.1)

PART 20—[AMENDED]

1. The authority citation for 39 CFR part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise the following sections of the IMM as follows:

* * * * *

Mailing Standards of the United States Postal Service, International Mail Manual (IMM)

* * * * *

2 Conditions for Mailing

* * * * *

290 Commercial Services

* * * * *

292 International Priority Airmail (IPA) Service

* * * * *

292.4 Mail Preparation

* * * * *

292.45 PA Foreign Office of Exchange Codes and Price Groups

* * * * *

Exhibit 292.45a

IPA Foreign Office of Exchange Codes and Price Groups

[Revise the entry for Saint Pierre and Miquelon to read as follows:]

Country labeling name | Foreign office of exchange code | Price group
* * * * * * *
Saint Pierre and Miquelon | ROI | 15
* * * * * * *

* * * * *

Country Price Groups and Weight Limits

* * * * *

[Revise the entry for Saint Pierre and Miquelon to read as follows:]

Country | Global Express Guaranteed: Price group | Global Express Guaranteed: Max. wt. (lbs.) | Priority Mail Express International: Price group | Priority Mail Express International: Max. wt. (lbs.) | Priority Mail Express International: PMEI flat rate envelopes price group ¹ | Priority Mail International: Price group | Priority Mail International: Max. wt. (lbs.) | Priority Mail International: PMI flat rate envelopes and boxes price group ² | First-Class Mail International and First-Class Package International Service: FCMI price group ³ | First-Class Mail International and First-Class Package International Service: FCPIS price group ⁴
* * * * * * *
Saint Pierre and Miquelon | n/a | n/a | n/a | n/a | n/a | 15 | 66 | 4 | 5 | 15
* * * * * * *

* * * * *

Individual Country Listings

* * * * *

Saint Pierre and Miquelon

* * * * *

[Revise the heading for the Priority Mail International section to read as follows (changing the price group to 15):]

Priority Mail International (230) Price Group 15

[Revise the heading for the First-Class Mail International section to read as follows (changing the price group to 5):]

* * * * *

First-Class Mail International (240) Price Group 5

[Revise the heading for the First-Class Package International Service section to read as follows (changing the price group to 15):]

* * * * *

First-Class Package International Service (250) Price Group 15

* * * * *

Kevin Rayburn,
Attorney, Ethics & Legal Compliance.

[FR Doc. 2025-01938 Filed 1-29-25; 8:45 am]

BILLING CODE 7710-12-P